DEPARTMENT OF HEALTH AND HUMAN SERVICES

National Institutes of Health

The National Cancer Institute (NCI) Announces the Initiation of a Public Private Industry Partnership on Translation of Nanotechnology in Cancer (TONIC) To Promote Translational Research and Development Opportunities of Nanotechnology-Based Cancer Solutions

AGENCY: National Cancer Institute (NCI), Office of Cancer Nanotechnology Research (OCNR), National Institutes of Health (NIH), Department of Health and Human Services (HHS).

ACTION: Notice.

SUMMARY: The Alliance for Nanotechnology in Cancer of the National Cancer Institute (NCI) is initiating a public private industry partnership called TONIC (Translation Of Nanotechnology In Cancer) to promote translational research and development opportunities of nanotechnology-based cancer solutions. An immediate consequence of this effort will be the formation of a consortium involving government and pharmaceutical, and biotechnology companies. This consortium will evaluate promising nanotechnology platforms and facilitate their successful translation from academic research to clinical environment, resulting in safe, timely, effective and novel diagnosis and treatment options for cancer patients.

The purpose of this notice is to inform the community about the Alliance for Nanotechnology in Cancer of NCI's intention to form the consortium and to invite eligible companies (as defined in last paragraph) to participate.

DATES: Interested parties should contact Ms. Sonia Calcagno (calcagnosl@mail.nih.gov) and inform her of their intention to participate. This notice will remain open to accept the inquiries and letters of intent.

FOR FURTHER INFORMATION CONTACT: Ms. Sonia Calcagno (calcagnosl@mail.nih.gov).

SUPPLEMENTARY INFORMATION:

Background: The National Cancer Institute established the Alliance for Nanotechnology in Cancer (ANC) program in September 2004 to facilitate the discovery and development of innovative nanotechnologies for applications in cancer prevention, diagnosis, and treatment and to address different stages of the developmental pipeline ranging from discovery, applied research through translation. The program has been providing funding to academic groups to support large multi-disciplinary projects—Centers for Cancer Nanotechnology Excellence (CCNEs) along with smaller Cancer Nanotechnology Platform Partnerships (CNPPs) and training programs. NCI also formed an intramural laboratory, the Nanotechnology Characterization Laboratory (NCL), to serve as a centralized facility to characterize nanomaterials.

A proposed TONIC consortium will operate in parallel with the Alliance program and will bring together individuals from sufficiently capitalized pharmaceutical, biotechnology and other healthcare-related companies and start-ups, which either have ongoing internal efforts within their organization or have strategic interest in evaluating the nanotechnology platforms for oncology care solutions, through participating in a academic-private partnership aimed at promoting translational opportunities.

Consortium Goals: Specifically, the TONIC consortium will undertake the key tasks of:

1. Creating a Discussion Forum for opportunities in the nanotechnology platform drug delivery, monitoring and imaging specifically in cancer, but may extend it to other therapeutic indications if an opportunity arises;

2. Developing a Roadmap for the development of nanotechnology-based cancer products;

3. Developing a robust translational model to move promising opportunities based on nanotechnology from academic research to the clinical environment;

4. Evaluating the most promising technology candidates within existing R&D developments and generating Case Studies based on them;

5. Recognizing and promoting translational efforts at every stage of development through appropriate partnerships among industry, academia, government, and philanthropy.

Consortium Membership: Membership to the TONIC consortium will be limited to companies which (1) Have a successful track record of translating diagnostics and drug formulations and reaching their regulatory approval and, (2) are engaged in the development of nanotechnology-based formulations with application to imaging, diagnostics and therapy.

In addition, these companies should have (1) A corporate structure with centralized operations and, (2) the capability and resources to move along the translational efforts effectively and to provide feedback to the academic researchers on industry technological needs.

Consortia members will be expected to attend regular meetings and participate in the project evaluation funded through TONIC consortium.

The following information must be provided by parties interested in participating in the consortium:

(1) The company profile;

(2) The name and specific function of the company representative for the TONIC consortium; and

(3) A brief rationale and/or statement of intent for participating in the consortium.

Dated: October 21, 2011.
Piotr Grodzinski,
Director, Office of Cancer Nanotechnology Research, Center for Strategic and Scientific Initiatives, National Cancer Institute.

[FR Doc. 2011-27939 Filed 10-27-11; 8:45 am]

BILLING CODE 4140-01-P